DEPARTMENT OF LABOR

Employment and Training Administration

[TA-W-52,515]

Buffalo China, Buffalo, NY; Notice of Termination of Investigation

Pursuant to section 221 of the Trade Act of 1974, as amended, an investigation was initiated on August 11, 2003 in response to a worker petition filed by a union official on behalf of workers at Buffalo China, Buffalo, New York.

The petitioner has requested that the petition be withdrawn. Consequently, the investigation has been terminated.

Signed at Washington, DC this 5th day of September, 2003.
Elliott S. Kushner,
Certifying Officer, Division of Trade Adjustment Assistance.

[FR Doc. 03-29366 Filed 11-24-03; 8:45 am]

BILLING CODE 4510-30-P